DEPARTMENT OF HEALTH AND HUMAN SERVICES

Health Resources and Services Administration

Advisory Commission on Childhood Vaccines Meeting Cancellation

AGENCY: Health Resources and Services Administration, Department of Health and Human Services.

ACTION: Notice of meeting cancellation.

SUMMARY: This is to notify the public that the June 4, 2020, and June 5, 2020, meeting of the Advisory Commission on Childhood Vaccines (ACCV) is canceled.

FOR FURTHER INFORMATION CONTACT: Tamara Overby, Designated Federal Officer, ACCV, 5600 Fishers Lane, Rockville, Maryland 20857, telephone: (301) 443-6634 or email: ACCV@HRSA.gov

SUPPLEMENTARY INFORMATION: This meeting was announced in the Federal Register, Vol. 85, No. 1 on Thursday, January 2, 2020 (FR Doc. 2019-28294 Filed 12-31-2019). Future meetings will occur in September and December of calendar year 2020 and were announced through the Federal Register.

Maria G. Button,
Director, Executive Secretariat.

[FR Doc. 2020-11705 Filed 5-29-20; 8:45 am]

BILLING CODE 4165-15-P